DEPARTMENT OF ENERGY

Energy Information Administration

Agency Information Collection Extension

AGENCY: U.S. Energy Information Administration (EIA), U.S. Department of Energy (DOE).

ACTION: Notice and request for comments.

SUMMARY: EIA submitted an information collection request for a three-year extension of the Coal Markets Reporting System as required by the Paperwork Reduction Act of 1995. The Coal Markets Reporting System (CMRS) consists of five surveys including, Form EIA-3 Quarterly Survey of Non-Electric Sector Coal Data, Form EIA-7A Annual Survey of Coal Production and Preparation, Form EIA-8A Annual Survey of Coal Stocks and Coal Exports, Form EIA-6 Emergency Coal Supply Survey (Standby), and Form EIA-20 Emergency Weekly Coal Monitoring Survey for Coal Burning Power Producers (Standby). The CMRS collects data on U.S. coal production, quality, consumption, receipts, stocks, and prices. EIA proposes to make changes to instructions to Forms EIA-3, EIA-7A, and EIA-8A and requests an extension to Forms EIA-6 and EIA-20 with no changes. The changes to Forms EIA-3, EIA-7A, and EIA-8A will reduce the burden of this collection while maintaining the utility and integrity of the data.

DATES: Comments on this information collection must be received no later than June 30, 2023. Written comments and recommendations for the proposed information collection should be sent within 30 days of publication of this notice to https://www.reginfo.gov/public/do/PRAMain. Find this information collection by selecting “Currently under 30-day Review—Open for Public Comments” or by using the search function.

FOR FURTHER INFORMATION CONTACT: Requests for additional information or copies of the forms and instructions should be directed to Ms. Rosalyn Berry at (202) 586-1026, or by email at Coal2023@eia.gov. The forms are available online.

SUPPLEMENTARY INFORMATION: This information collection request contains:

(1) OMB No.: 1905-0167;

(2) Information Collection Request Title: Coal Markets Reporting System;

(3) Type of Request: Three-year extension with changes;

(4) Purpose: The Coal Markets Reporting System (CMRS) program collects, evaluates, assembles, analyzes, and disseminates information on coal production, sales, technology, reserves, and related economic and statistical information. This information is used to assess the adequacy of coal and other energy resources to meet near and longer-term domestic demands and to promote sound policymaking, efficient markets, and public understanding of energy and its interaction with the economy and the environment.

Form EIA-3 collects quarterly data on the use of coal at U.S. manufacturing plants, coal transformation/processing plants, coke plants, and commercial and institutional users of coal. Form EIA-7A collects coal production operations, characteristics of coalbeds mined, recoverable reserves, production capacity, coal sales and revenue, stocks held at mines, and the disposition of the coal mined. For coal preparation, information collected includes operations, locations, production capacity, disposition, and volume of coal prepared. Form EIA-8A collects data on coal stocks by state location, exported coal by origin state, and export revenue of coal sold during the reporting year.

Form EIA-6 Emergency Coal Supply Survey and Form EIA-20 Emergency Weekly Coal Monitoring Survey for Coal Burning Power Producers are standby surveys used during periods of coal supply and transportation disruptions. In the event of a supply or transportation disruption, these two standby surveys activate and operate weekly over a ten-week period. Once activated, Form EIA-6 collects weekly coal production and stocks data from U.S. coal mining companies. Data are aggregated and reported at the state level. During disruptive events, Form EIA-20 collects available coal-fired capacity, generation, consumption, and stocks from coal-fired electric power generators.

The CMRS also collects coal market data. The data elements include production, consumption, receipts, stocks, sales, and prices. Information pertaining to the quality of the coal is also collected, including heat content, ash content, sulfur content and contents of mercury. Aggregates of this collection are used to support analysis on the effects of public policy on the coal industry, economic modeling, forecasting, coal supply and demand studies, and in guiding research and development programs. The data are included in EIA publications, such as the Monthly Energy Review, Quarterly Coal Report, Quarterly Coal Distribution Report, Annual Coal Report, and Annual Coal Distribution Report.

EIA also uses the data in short-term and long-term forecast models such as the Short-Term Integrated Forecasting System (STIFS) and the National Energy Modeling System (NEMS) Coal Market Module. The forecast data also appear in the Short-Term Energy Outlook and the Annual Energy Outlook publications.

(4a) Proposed Changes: EIA will be requesting a three-year extension of approval for all its coal surveys with the following changes:

Form EIA-3: Quarterly Survey of Industrial, Commercial, & Institutional Coal Users

• Revise the instructions to indicate only active users of coal need report. Currently, respondents are required to report if they've consumed more than 1,000 short tons in the past year. Respondents who switch from coal to gas are still required to file the EIA-3 for up to almost a year after they stop consuming coal. The proposed change will make it easier for respondents who permanently stop consuming coal to be removed from the survey frame, thereby reducing the reporting burden of this collection.

Form EIA-7A: Annual Survey of Coal Production and Preparation

• Revise the instructions to indicate all coal mining companies that owned a mining operation which produced 50,000 or more short tons of coal during the reporting year must submit the Form EIA-7A, except for anthracite mines. The current threshold for anthracite mines of 10,000 short tons would remain the same. The proposed change in reporting threshold from 25,000 to 50,000 short tons will reduce the reporting burden of this collection while maintaining the utility and integrity of the data.

• Revise the instructions to remove the notes for Part 3 Question 10 advising respondents how to convert longitude and latitude, referencing an external document on EIA's website. These instructions are outdated and unnecessary.

Form EIA-8A: Annual Survey of Coal Stocks and Coal Exports

• Add an instruction to Part 2, Question 1 and Part 3 Question 1 to exclude stocks and exports already reported on the Form EIA-7A. Some respondents file both Forms EIA-7A and EIA-8A, especially companies with parent companies. The proposed change will avoid duplication of data collection, thereby reducing the reporting burden on Form EIA-8A respondents.

(5) Annual Estimated Number of Respondents: 833;

• Form EIA-3 will consist of 290 respondents;

• Form EIA-7A will consist of 480 respondents;

• Form EIA-8A will consist of 44 respondents;

• Form EIA-6 (standby) will consist of 10 respondents;

• Form EIA-20 (standby) will consist of 9 respondents;

(6) Annual Estimated Number of Responses: 1,830.

(7) Annual Estimated Number of Burden Hours: 3,149.

(8) Annual Estimated Reporting and Recordkeeping Cost Burden: Additional costs to respondents are not anticipated beyond costs associated with response burden hours. The information is maintained in the normal course of business. The cost of the burden hours is estimated to be $275,097 (3,149 burden hours times $87.36 per hour). Other than the cost of burden hours, EIA estimates that there are no additional costs for generating, maintaining and providing the information.

Statutory Authority: 42 U.S.C. 7135, 15 U.S.C. 772(b), and 42 U.S.C. 7101 et seq.

Signed in Washington, DC, on May 24, 2023.
Samson A. Adeshiyan,
Director, Office of Statistical Methods and Research, U. S. Energy Information Administration.

[FR Doc. 2023-11485 Filed 5-30-23; 8:45 am]

BILLING CODE 6450-01-P